ENVIRONMENTAL PROTECTION AGENCY

[EPA-HQ-OAR-2019-0489; FRL-12876-01-OAR]

Agency Information Collection Activities; Proposed Information Collection Request; Comment Request; Control of Air Pollution From Motor Vehicles: Tier 3 Motor Vehicle Emission Standards (Renewal)

AGENCY: Environmental Protection Agency (EPA).

ACTION: Notice.

SUMMARY: The Environmental Protection Agency (EPA) is planning to submit an information collection request (ICR), “Control of Air Pollution from Motor Vehicles: Tier 3 Motor Vehicle Emission Standards (Renewal)”, EPA ICR Number 0783.66, OMB Control Number 2060-0104 to the Office of Management and Budget (OMB) for review and approval in accordance with the Paperwork Reduction Act. Before doing so, EPA is soliciting public comments on specific aspects of the proposed information collection request as described below. This is a proposed extension of this ICR, which is currently approved through January 31, 2026. This notice allows for 60 days for public comments.

DATES: Comments must be submitted on or before September 22, 2025.

ADDRESSES: Submit your comments, referencing the Docket ID No. EPA-HQ-OAR-2019-0489, to the EPA: online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: David Wright, Implementation, Analysis and Compliance Division, Office of Transportation and Air Quality, U.S. Environmental Protection Agency, 2000 Traverwood, Ann Arbor, Michigan 48105; telephone number: 734-214-4467; fax number 734-214-4869; email address: wright.davida@epa.gov.

SUPPLEMENTARY INFORMATION: This is a proposed extension of the ICR, which is currently approved through January 31, 2026. An agency may not conduct, or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: Under Sections 202(a) and 202(k) of the Clean Air Act (42 U.S.C. 7521), EPA finalized regulations to set more stringent vehicle emission standards beginning in model year 2017, as part of a systems approach to addressing the impacts of motor vehicles and fuels on air quality and public health. The Tier 3 vehicle emission standards, which are the subject of this ICR, reduce both tailpipe and evaporative emissions from passenger cars, light-duty trucks, medium-duty passenger vehicles, and some heavy-duty vehicles. The Tier 3 vehicle standards are harmonized with California's Low Emission Vehicle Program—LEVIII standards, creating a federal vehicle emissions program allowing automakers to sell the same vehicles in all 50 states. This ICR covers the information that affected respondents must provide to the Agency. Any information submitted to the Agency for which a claim of confidentiality is made is safeguarded according to policies set forth in CFR title 40, chapter 1, part 2, subpart B—Confidentiality of Business Information (see 40 CFR part 2).

Form Numbers:

Form name | Form
Light-duty Cover of Outside Useful Life System | 5800-257.
Light-duty Conversion of Intermediate Age System | 5800-258.
Tier 3 Light-duty FTP and SFTP AB&T Reporting | 5900-471.
Tier 3 Heavy-duty NMOG+NOx, Evaporative and Cold NMHC AB&T Reporting | 5900-470.
EPA Plug-In Hybrid Electric Vehicle Calculator | NEW.
EPA Electric Vehicle FE Label Calculator | NEW.
EPA Generic Multicycle Calculator | NEW.

Respondents/affected entities: Respondents are identified within the following North American Industry Classification System (NAICS) codes:

Category | NAICS ᵃ code | SIC ᵇ code | Examples of potentially affected entities
Industry | 336111, 336112 | 3711 | Light-duty vehicle and light-duty truck manufacturers.
Industry | 811111, 811112, 811198 | 7538, 7533, 7534 | Independent commercial importers.
Industry | 335312, 336312, 336322, 336399, 811198 | 3621, 3714, 3519, 3599, 7534 | Alternative fuel converters.
Industry | 333618, 336120, 336211, 336312 | 3699, 3711, 3713, 3714 | On-highway heavy-duty engine & vehicle (≤8,500 lbs GVWR) manufacturers.
ᵃ North American Industry Classification System (NAICS).
ᵇ Standard Industrial Classification (SIC).

Respondent's obligation to respond: The respondent's obligation to respond is voluntary, but respondents who choose not to respond cannot obtain a Certificate of Conformity, and therefore cannot introduce their products into commerce in the U.S.

Estimated number of respondents: 49 (total).

Frequency of response: As needed.

Total estimated burden: 509,869 hours (per respondent, per year). Burden is defined at 5 CFR 1320.3(b).

Total estimated cost: $43,090,092 (per year), includes $15,294,661 annualized capital and $27,795,432 operation & maintenance costs.

Changes in estimates: There is a decrease of 14,475 hours in the total estimated respondent burden compared with the ICR currently approved by OMB. This decrease is primarily due to the reduction in the burden estimated for the fuel economy information collection. The reduction in this information collection was offset by increases in the burden for the Tier 3 emissions, in-use verification, and defect reporting information collections.

Byron Bunker,
Director, Implementation, Analysis and Compliance Division.

[FR Doc. 2025-13761 Filed 7-21-25; 8:45 am]

BILLING CODE 6560-50-P